FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 27, 2016.

A. Federal Reserve Bank of Chicago (Colette A. Fried, Assistant Vice President) 230 South LaSalle Street, Chicago, Illinois 60690-1414:

1. Charles W. Ruth, individually and as the sole general partner of ACBT L.P., both of Huntley, Illinois, to individually, and together as a group acting in concert, with ACBT L.P., Helen J. Ruth, Eric L. Ruth, all of Huntley, Illinois, William A. Ruth, Mary H. Ruth, both of Woodstock, Illinois, Emily Ruth Smith, Lake in the Hills, Illinois, and Scott H. Ruth, Marengo, Illinois; to acquire voting shares of American Community Financial, Inc., and thereby indirectly acquire voting shares of American Community Bank, both in Woodstock, Illinois.

2. Jean E. Vogel, Erika G. Brossard, and Anne N. Kooiman, all of Orange City, Iowa; DV Capital, L.L.C., with Drew F. Vogel and Jean E. Vogel as members, all of Orange City, Iowa; Ian D. Vogel and Maximillian O. Faidi, both of Omaha, Nebraska; Mia K. Nelson, Carol Stream, Illinois; Ali N. Goepfert, Lino Lakes, Minnesota; Meika M. Vogel and Trevor A. Vogel, both of Eden Prairie, Minnesota; Tyler F. Vogel, Northfield, Minnesota; and Christopher W. Vogel, Minneapolis, Minnesota, to join the Vogel Family Control Group (currently consisting of Franklin Vogel and Drew F. Vogel, both of Orange City, Iowa; Wrede E. Vogel, Luverne, Minnesota; and Blair D. Vogel, Omaha, Nebraska); and to retain voting shares of Vogel Bancshares, Inc., Orange City, Iowa, and thereby indirectly retain voting shares of Iowa State Bank, Hull, Iowa.

Board of Governors of the Federal Reserve System, January 7, 2016.
Michael J. Lewandowski,
Associate Secretary of the Board.

[FR Doc. 2016-00381 Filed 1-11-16; 8:45 am]

BILLING CODE 6210-01-P